DEPARTMENT OF HEALTH AND HUMAN SERVICES

Office of the Secretary

Office of Resources and Technology; Statement of Organization, Functions, and Delegations of Authority

Part A, Office of the Secretary, Statement of Organization, Functions and Delegations of Authority for the Department of Health and Human Services (HHS) is being amended as Chapter AM, Office of Resources and Technology, as last amended 72 FR 56074-75, dated October 2, 2007. This reorganization will establish an Office of Recovery Act Coordination (AMV) within the Office of Resources and Technology (ORT) to coordinate within HHS the American Recovery and Reinvestment Act of 2009 and the Office of Management and Budget (OMB) implementing guidelines. This reorganization will make the following changes under Chapter AM, Office of Resources and Technology:

A. Under Section AM.10 Organization, delete in its entirety and replace with the following:

Section AM.10 Organization: The Office of Resources and Technology is headed by the Assistant Secretary for Resources and Technology (ASRT). The Assistant Secretary for Resources and Technology is the Departmental Chief Financial Officer (CFO), and reports to the Secretary. The office consists of the following components:

○ Immediate Office of the Assistant Secretary (AM).

○ Office of Budget (AML).

○ Office of Chief Information Officer (AMM).

○ Office of Finance (AMS).

○ Office of Grants (AMT).

○ Office of Recovery Act Coordination (AMV).

B. Under Section AM.20 Functions, add the following new Chapter AMV, Office of Recovery Act Coordination:

Section AMV.00 Mission

The Office of Recovery Act Coordination (ORAC) is responsible for coordinating the implementation of the American Recovery and Reinvestment Act of 2009 (ARRA or Recovery Act) within the Department of Health and Human Services (FIRS). The ORAC ensures that HHS meets the statutory requirements of the Recovery Act and follows the Office of Management and Budget's (OMB) implementing guidance. ORAC acts as the official repository of HHS Recovery Act information and data. As such, it is the authoritative source for information and data for all memoranda and reports provided to the Secretary, and formal communications to OPDIVs and STAFFDIVs. The ORAC is also the authoritative source for accurate and up-to-date information for all communications, including electronic communication, to OMB, the Congress and the public.

To carry out its mission, the ORAC coordinates with all relevant business management functions managed by STAFFDIVs, such as public affairs, grants and contract management, financial management, budget, planning and evaluation, information technology, and the Office of the General Counsel. It also coordinates closely with the OPDIVs that manage appropriated funds and programs authorized under the Recovery Act.

By convening meetings and workgroups of senior HHS program and business managers and by working in close collaboration with existing business management and program offices, the ORAC ensures that funds are awarded in a prompt, fair and reasonable manner; that recipients and users of all funds are transparent to the public; that the public benefits of these funds are reported clearly and accurately; that reporting due dates are met; that performance outcomes are established and tracked; that projects and activities funded under the Recovery Act are achieved while mitigating risk; and that the Office of the Assistant Secretary for Public Affairs is able to keep the public constantly informed through the web and other means of communications.

Section AMV.10 Organization

The Office of Recovery Act Coordination is headed by a Deputy Assistant Secretary for Recovery Coordination, reports to the Assistant Secretary for Resources and Technology, and is responsible for meeting performance objectives set by the HHS Senior Accountable official.

ORAC includes the following components:

○ Immediate Office of the Recovery Act Coordination (AMV).

○ Division of Management and Performance (AMV1).

○ Division of Planning and Presentation (AMV2).

○ Division of Project Coordination (AMV3).

Section AMV.20 Function

1. Immediate Office of Recovery Act Coordination (AMV)

The Immediate Office of Recovery Act Coordination (ORAC) is responsible for: (a) providing advice and counsel to the Secretary, the Senior Accountable Official, and the Assistant Secretary for Resources and Technology (ASRT) on all issues related to the Recovery Act; and (b) convening senior HHS program and business mangers in order to coordinate activities of the Recovery Act and the Office of Management and Budget's (OMB's) implementing guidelines related to the Recovery Act.

2. Division of Management and Performance (AMV1)

The Division of Management and Performance (DMP) is responsible for:

(a) Ensuring that accountability measures for all ARRA projects and activities are identified, coordinated with the HHS Office of Inspector General (OIG) and implemented according to schedules.

(b) Coordinating with the General Accounting Office (GAO) and the OIG on all matters relating to the integrity of projects and activities supported by the ARRA.

(c) Managing HHS contacts with the Recovery Accountability and Transparency Board.

(d) Identifying and coordinating the timely preparation of all reports required by ARRA and OMB's guidance.

(e) Coordinating the development and implementation of procedures for performance reporting by recipients of funds under the ARRA.

(f) Providing management support to the Deputy Assistant Secretary and ORAC staff including correspondence control.

(g) Establishing and maintaining all files and records related to the Recovery Act.

(h) Managing the distribution and maintenance of all guidance developed by ORAC.

3. Division of Planning and Presentation (AMV2)

The Division of Planning and Presentation (DPP) is responsible for:

(a) Designing and assembling project plans for implementing all essential projects and activities required by the American Recovery and Reinvestment Act (ARRA) and related Office of Management and Budget guidance.

(b) Identifying for each project plan the key tasks, milestones, and activities requiring coordination with HHS program and business functions managed by OPDIVs and STAFFDIVs.

(c) Updating the project plans regularly as required.

(d) Preparing executive level reports that portray the overall status of ARRA implementation based on individual project and activity plans. These status reports will provide the basis for ARRA briefings and reports to the Secretary, the ARRA Implementation Team, the Recovery Act Technical Council, OMB, the Congress, and the public.

(e) Reviewing and coordinating external communications related to ARRA implementation. As the authoritative source for information on ARRA implementation, DPP will work closely with the Office of the Assistant Secretary for Public Affairs (ASPA), STAFFDIVs and OPDIVs on the preparation of all public statements and web communication related to ARRA.

(f) Preparing presentations and briefings on ARRA implementation to the Secretary, OMB, and in consultation, with the Office of the Assistant Secretary for Legislation, the Congress.

(g) Coordinating the preparation of the Implementation Plan required by ARRA and other similar reports to the Congress and OMB.

(h) Convening meetings and workgroups of senior HHS program and business managers in order to coordinate the development of the Recovery Act plans and projects.

4. Division of Project Coordination (DMV3)

The Division of Project Coordination (DPC) is responsible for:

(a) Establishing systems and procedures for coordinating the implementation plans for all relevant projects and activities of the ARRA and preparing guidance to all relevant HHS components specifying the roles and responsibilities of key components.

(b) Coordinating, through its project officers, each project and activity using the project plan designed by DPP as the framework for identifying key tasks, milestones and the matrix of business functions and offices that are involved in implementation.

(c) Identifying and resolving issues arising during implementation using coordination as a primary means for issue resolution.

(d) Preparing status reports against project plans as specified by DPP.

(e) Providing support to the Recovery Act Technical Council and the ARRA Implementation Team.

Dated: March 12, 2009.
Charles E. Johnson,
Acting Secretary.

[FR Doc. E9-9071 Filed 4-20-09; 8:45 am]

BILLING CODE 4150-04-M